ENVIRONMENTAL PROTECTION AGENCY

40 CFR Parts 52 and 81

[R04-OAR-2005-TN-0007-200527(b); FRL-7973-4]

Approval and Promulgation of Implementation Plans and Designation of Areas for Air Quality Planning Purposes; Tennessee; Redesignation of the Montgomery County, Tennessee Portion of the Clarksville-Hopkinsville 8-Hour Ozone Nonattainment Area to Attainment

AGENCY: Environmental Protection Agency (EPA).

ACTION: Proposed rule.

SUMMARY: On August 10, 2005, the State of Tennessee, through the Tennessee Department of Environment and Conservation (TDEC), Air Pollution Control Division, submitted a final request: To redesignate the Montgomery County, Tennessee portion of the Clarksville-Hopkinsville 8-hour ozone nonattainment area to attainment for the 8-hour ozone National Ambient Air Quality Standard (NAAQS), and to approve a Tennessee State Implementation Plan (SIP) revision containing a 12-year maintenance plan for Montgomery County, Tennessee. The interstate Clarksville-Hopkinsville 8-hour ozone nonattainment area is comprised of two counties (i.e., Christian County, Kentucky and Montgomery County, Tennessee). EPA is approving the 8-hour ozone redesignation request for the Montgomery County, Tennessee portion of the Clarksville-Hopkinsville 8-hour ozone nonattainment area. Additionally, EPA is approving the 8-hour ozone maintenance plan for Montgomery County, Tennessee. This approval is based on EPA's determination that the State of Tennessee has demonstrated that Montgomery County, Tennessee has met the criteria for redesignation to attainment specified in the Clean Air Act (CAA), including the determination that the entire Clarksville-Hopkinsville 8-hour ozone nonattainment area has attained the 8-hour ozone standard. On March 21, 2005, the Commonwealth of Kentucky submitted a redesignation request and maintenance plan for the Christian County, Kentucky portion of this area for EPA parallel processing. In this action, EPA is also providing information on the status of its transportation conformity adequacy determination for the new motor vehicle emissions budgets (MVEBs) for the year 2016 that are contained in the 12-year 8-hour ozone maintenance plan for Montgomery County, Tennessee. EPA is approving such MVEBs.

DATES: Written comments must be received on or before October 24, 2005.

ADDRESSES: Comments may be mailed to Anne Marie Hoffman of the Regulatory Development Section or Amanetta Wood of the Air Quality Modeling and Transportation Section at the Air Planning Branch, Air, Pesticides and Toxics Management Division, U.S. Environmental Protection Agency, Region 4, 61 Forsyth Street, SW., Atlanta, Georgia 30303-8960. Please follow the detailed instructions described in the direct final rule, ADDRESSES section which is published in the Rules Section of this Federal Register.

FOR FURTHER INFORMATION CONTACT: Anne Marie Hoffman may be reached by phone at (404) 562-9074 and via electronic mail at hoffman.annemarie@epa.gov. Amanetta Wood may be reached by phone at (404) 562-9025 and via electronic mail at wood.amanetta@epa.gov.

SUPPLEMENTARY INFORMATION: For additional information on the approval of Tennessee's redesignation request and maintenance plan for the Montgomery County portion of the Clarksville-Hopkinsville 8-hour ozone nonattainment area, please see the direct final rule which is published in the Final Rules section of this Federal Register.

Dated: September 13, 2005.
A. Stanley Meiburg,
Acting Regional Administrator, Region 4.

[FR Doc. 05-18952 Filed 9-21-05; 8:45 am]

BILLING CODE 6560-50-P